DEPARTMENT OF TRANSPORTATION

Federal Railroad Administration

[Docket No. FRA-2017-0002-N-12]

Proposed Agency Information Collection Activities; Comment Request

AGENCY: Federal Railroad Administration (FRA), U.S. Department of Transportation (DOT).

ACTION: Notice and request for comments.

SUMMARY: Under the Paperwork Reduction Act of 1995 (PRA) and its implementing regulations, FRA seeks approval of the proposed information collection activities listed below. Before submitting these information collection requests (ICR) to the Office of Management and Budget (OMB) for approval, FRA is soliciting public comment on specific aspects of the activities identified below.

DATES: Comments must be received no later than July 3, 2017.

ADDRESSES: Submit written comments on the information collection activities by mail to either: Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” and should also include the title of the ICR. Alternatively, comments may be faxed to (202) 493-6216 or (202) 493-6497, or emailed to Ms. Toone at Kim.Toone@dot.gov. Please refer to the assigned OMB control number in any correspondence submitted. FRA will summarize comments received in response to this notice in a subsequent notice and include them in its information collection submission to OMB for approval.

FOR FURTHER INFORMATION CONTACT: Ms. Kim Toone, Information Collection Clearance Officer, Office of Information Technology, RAD-20, Federal Railroad Administration, 1200 New Jersey Avenue SE., Mail Stop 35, Washington, DC 20590 (telephone: (202) 493-6132). (This telephone number is not toll free.)

SUPPLEMENTARY INFORMATION: The PRA, 44 U.S.C. 3501-3520, and its implementing regulations, 5 CFR part 1320, require Federal agencies to provide 60-days' notice to the public to allow comment on information collection activities before seeking OMB approval of the activities. See 44 U.S.C. 3506(c)(2)(A); 5 CFR 1320.8(d)(1), 1320.10(e)(1), 1320.12(a). Specifically, FRA invites interested parties to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of information collection activities that FRA will submit for OMB renewed or revised clearance as the PRA requires:

Title: Experimental Investigation of Automation-Induced Human Error in Locomotive Cab.

OMB Control Number: 2130-XXXX.

Abstract: The purpose of this collection is to identify and evaluate the potential for human error associated with the operation of systems and automation in the locomotive cab. This research addresses DOT's strategic goal of safety. Once the nature and risk of human error in locomotive cab systems and automation is better understood, error mitigating steps can be taken to provide safer systems and reduce the risk of accidents or incidents involving these systems. FRA will use the research's results to identify training, operational procedures, or automation design standards that will improve the safety of automated systems in locomotive cabs.

Affected Public: Railroad Engineers.

Respondent Universe: 30 Engineers.

Frequency of Submission: One Time.

Reporting Burden:

| Respondent universe | Total annual responses | Average time per response (hours) | Total annual burden hours
Simulator Experience | 30 Engineers | 30 | 6.5 | 195

Total Estimated Annual Responses: 30.

Total Estimated Annual Burden: 195 hours.

Type of Request: New Information Collection Request.

Title: Design and Evaluation of a Robust Manual Locomotive Operating Mode.

OMB Control Number: 2130-XXXX.

Abstract: The purpose of this study is to design and evaluate a prototype locomotive operating mode that allows an operator to “manually” control a train by providing a desired speed target while the control system determines the throttle notch changes required. This research addresses DOT's safety strategic goal. Information collected from this research will be used by researchers and equipment designers to evaluate the merit of a prototype display and control configuration maximizing the use of both automation and human capabilities. The information will also assist the Federal government in recommending display design standards to the rail industry for future displays and the results may help design future displays and controls for locomotives.

Affected Public: Railroad Engineers, College Student Volunteers.

Respondent Universe: Railroad Engineers and College Student Volunteers.

Frequency of Submission: One time.

Reporting Burden:

CFR section | Respondent universe | Total annual responses | Average time per response (hours) | Total annual burden hours
Simulator Experience | 30 Engineers and college students | 30 | 9 | 270

Total Estimated Annual Responses: 30.

Total Estimated Annual Burden: 270 hours.

Type of Request: New Information Collection Request.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-08792 Filed 5-1-17; 8:45 am]

BILLING CODE 4910-06-P